SMALL BUSINESS ADMINISTRATION

National Small Business Development Center Advisory Board; Public Meeting

The U.S. Small Business Administration National Small Business Development Center Advisory Board will hold a public meeting on Sunday, February 6, 2000, from 9 am to 4 pm at the Le Richelieu Hotel, New Orleans, Louisiana to discuss such matters as may be presented by members, staff of the U.S. Small Business Administration, or others present.

FOR FURTHER INFORMATION CONTACT: Please write or call Ellen Thrasher, U.S. Small Business Administration, 409 Third Street, SW, Fourth Floor, Washington, DC 20416, telephone number (202) 205-6817.

Kris Swedin,
Chief of Staff.

[FR Doc. 00-1231 Filed 1-18-00; 8:45 am]

BILLING CODE 8025-01-P